DEPARTMENT OF THE INTERIOR

U.S. Geological Survey

[USGS-GX12RN000DSA200]

Agency Information Collection Activities: Submitted for Office of Management and Budget (OMB) Review; Comment Request on Extension of Existing Information Collection

AGENCY: U.S. Geological Survey (USGS), Interior.

ACTION: Notice of extension of an existing information collection (1028-0048).

SUMMARY: To comply with the Paperwork Reduction Act of 1995 (PRA), we are notifying the public that we have submitted to the Office of Management and Budget (OMB) an information collection request (ICR) for the revision of the currently approved paperwork requirements for the USGS Earthquake Report. We may not conduct or sponsor and a person is not required to respond to a collection of information unless it displays a currently valid OMB control number. However, under OMB regulations, we may continue to conduct or sponsor this information collection while it is pending at OMB. This notice provides the public and other Federal agencies an opportunity to comment on the nature of this collection which is scheduled to expire on March 31, 2012.

DATES: You must submit comments on or before April 11, 2012.

ADDRESSES: Please submit written comments on this information collection directly to the Office of Management and Budget (OMB) Office of Information and Regulatory Affairs, Attention: Desk Officer for the Department of the Interior via email to OIRA_DOCKET@omb.eop.gov or fax at 202-395-5806; and reference Information Collection 1028-0048 in the subject line.

Please submit a copy of your comments to the Information Collection Clearance Officer, U.S. Geological Survey, 12201 Sunrise Valley Drive MS 807, Reston, VA 20192 (mail); (703) 648-7199 (fax); or smbaloch@usgs.gov (email). Use Information Collection Number 1028-0048 in the subject line.

FOR FURTHER INFORMATION CONTACT: To request additional information about this ICR, contact Jim Dewey at (303) 273-8419.

SUPPLEMENTARY INFORMATION:

OMB Control Number: 1028-0048.

Title: USGS Earthquake Report.

Type of Request: Extension of a currently approved collection.

Affected Public: General Public.

Respondent Obligation: Voluntary.

Frequency of Collection: On occasion, after an earthquake.

Estimated Completion Time: 6 minutes.

Estimated Annual Number of Respondents: 300,000

Estimated Annual Burden Hours: 30,000 hours.

Abstract: The collection of information applies to a World-Wide Web site questionnaire that permits individuals to report on the effects of the shaking from an earthquake—on themselves personally, buildings, other man-made structures, and ground effects such as faulting or landslides. The USGS may use the information to provide qualitative, quantitative, or graphical descriptions of earthquake damage. We will release data collected on these forms only in a summary format.

Comments: To comply with the public consultation process, on December 6, 2011, we published a Federal Register notice (76 FR 76177) announcing our intent to submit this information collection to OMB for approval. In that notice we solicited public comments for 60 days, ending on February 6, 2012. We did not receive any comments concerning the notice.

We again invite comments concerning this information collection on: (1) Whether or not the collection of information is necessary, including whether or not the information will have practical utility; (2) the accuracy of our estimate of the burden for this collection of information; (3) ways to enhance the quality, utility, and clarity of the information to be collected; and (4) ways to minimize the burden of the collection of information on respondents.

Please note that the comments submitted in response to this notice are a matter of public record. Before including your address, phone number, email address, or other personal identifying information in your comment, you should be aware that your entire comment, including your personal identifying information, may be made publicly available at any time. While you can ask OMB in your comment to withhold your personal identifying information from public review, we cannot guarantee that it will be done.

Dated: March 5, 2012.
Jill McCarthy,
Geologic Hazards Science Center, Chief Scientist.

[FR Doc. 2012-5867 Filed 3-9-12; 8:45 am]

BILLING CODE 4311-AM-P